DEPARTMENT OF THE INTERIOR

National Park Service

[NPS-WASO-NAGPRA-19631: PPWOCRADN0-PCU00RP14.R50000]

Notice of Intent to Repatriate Cultural Items: Carnegie Museum of Natural History, Pittsburgh, PA

AGENCY: National Park Service, Interior.

ACTION: Notice.

SUMMARY: The Carnegie Museum of Natural History, in consultation with the appropriate Indian tribes or Native Hawaiian organizations, has determined that the cultural items listed in this notice meet the definition of unassociated funerary objects. Lineal descendants or representatives of any Indian tribe or Native Hawaiian organization not identified in this notice that wish to claim these cultural items should submit a written request to the Carnegie Museum of Natural History. If no additional claimants come forward, transfer of control of the cultural items to the lineal descendants, Indian tribes, or Native Hawaiian organizations stated in this notice may proceed.

DATES: Lineal descendants or representatives of any Indian tribe or Native Hawaiian organization not identified in this notice that wish to claim these cultural items should submit a written request with information in support of the claim to the Carnegie Museum of Natural History at the address in this notice by December 17, 2015.

ADDRESSES: Deborah G Harding, Collection Manager, Section of Anthropology, Carnegie Museum of Natural History, 5800 Baum Boulevard, Pittsburgh, PA 15206, telephone (412) 665-2608, email hardingd@carnegiemnh.org.

SUPPLEMENTARY INFORMATION: Notice is here given in accordance with the Native American Graves Protection and Repatriation Act (NAGPRA), 25 U.S.C. 3005, of the intent to repatriate cultural items under the control of the Carnegie Museum of Natural History, Pittsburgh, PA that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Item(s)

Between 1957 and 1960, human remains representing at minimum, 58 individuals were removed from the Chambers site (36LR11) in Lawrence County, PA. John A. Zakucia, a private individual, excavated from 1957 to 1959, with permission from the landowners. He donated human remains and associated funerary objects to CMNH in June, 1959. In 1959-1960, CMNH personnel assisted Zakucia in his excavations. During these excavations, 2530 additional, unaffiliated cultural items were removed from the Chambers Site (36LR11) in Lawrence County, PA. The 2,531 unassociated funerary objects, are 1953 flint fragments; 373 scrapers and knives; 40 points and fragments; 4 choppers; 6 hammerstones; 1 steatite fragment; 10 burins and gravers; 11 native pottery fragments; 7 hematite fragments; 16 animal bone fragments; 6 pitted stones; 11 charcoal fragments; 1 net weight; 38 natural stones and fragments; 3 drills; 6 historic pottery fragments; 20 iron and nail fragments; 2 glass fragments; 2 mortar fragments; 4 polished stones; 1 gorget and 3 fragments; 1 Micmac-style pipe; 1 coal fragment; 1 copper fragment; 2 fire-cracked rocks; 1 piece of wood with bone; 1 charred corn cob; l Lincoln penny; and 5 radio-carbon samples.

Determinations Made by the Carnegie Museum of Natural History

Officials of the Carnegie Museum of Natural History have determined that:

• Pursuant to 25 U.S.C. 3001(3)(B), the 2530 cultural items described above are not believed to have been placed with or near individual human remains at the time of death or later as part of the death rite or ceremony and are believed, by a preponderance of the evidence, not to have been removed from a specific burial site of a Native American individual. However, since these objects were excavated from above and below a historic cemetery associated with an historic Delaware village, and since the Delaware consider them by proximity to be part of the burials from that cemetery, they become de facto funerary objects.

• Because of the point above, pursuant to 25 U.S.C. 3001(2), there is a relationship of shared group identity that can be reasonably traced between the unassociated funerary objects and Delaware Tribe of Indians.

Additional Requestors and Disposition

Lineal descendants or representatives of any Indian tribe or Native Hawaiian organization not identified in this notice that wish to claim these cultural items should submit a written request with information in support of the claim to Deborah G Harding, Collection Manager, Section of Anthropology, Carnegie Museum of Natural History, 5800 Baum Blvd., Pittsburgh, PA 15206, telephone (412-665-2608) email hardingd@carnegiemnh.org, by December 17, 2015. After that date, if no additional claimants have come forward, transfer of control of the unassociated funerary objects to the Delaware Tribe of Indians may proceed.

The Carnegie Museum of Natural History is responsible for notifying the Delaware Tribe of Indians that this notice has been published.

Dated: October 21, 2015.
Melanie O'Brien,
Manager, National NAGPRA Program.

[FR Doc. 2015-29355 Filed 11-16-15; 8:45 am]

BILLING CODE 431210-50-P